DEPARTMENT OF THE INTERIOR

Geological Survey

Patent, Trademark and Copyright Acts

AGENCY: Geological Survey, Interior.

ACTION: Notice of prospective intent to award exclusive license.

SUMMARY: The United States Geological Survey (USGS) is contemplating awarding an exclusive license to: Ozone Technologies Group, Inc., 253 Portman Lane, Suite 107, Bridgeville, PA 15017 on U.S. Patent No. 6,485,696 B1, entitled “Recovery/Removal of Metallic Elements from Waste Water Using Ozone.”

Inquiries: If other parties are interested in similar activities, or have comments related to the prospective awards, please contact Neil Mark, USGS, 12201 Sunrise Valley Drive, MS 201, Reston, Virginia 20192, voice (703) 648-4344, fax (703) 648-7219, or e-mail nmark@usgs.gov.

SUPPLEMENTARY INFORMATION: This notice is submitted to meet the requirements of 35 U.S.C. 208 et seq.

Dated: June 16, 2010.
Karen D. Baker,
Associate Director, Office of Administrative Policy and Services.

[FR Doc. 2010-15670 Filed 7-1-10; 8:45 am]

BILLING CODE 4311-AM-P